DEPARTMENT OF ENERGY

Federal Energy Regulatory Commission

Notice of Institution of Proceeding and Refund Effective Date

November 1, 2006.

—
California Independent System Operator, Inc | Docket No. EL07-1-000.
ISO New England, Inc | Docket No. EL07-2-000.
PJM Interconnection, LLC | Docket No. EL07-3-000.
Midwest Independent Transmission System Operator, Inc | Docket No. EL07-4-000.
NewYork Independent System Operator, Inc | Docket No. EL07-5-000.
Southwest Power Pool, Inc | Docket No. EL07-6-000.

On October 25, 2006, the Commission issued an order that instituted a proceeding in the above-referenced dockets, pursuant to section 206 of the Federal Power Act (FPA), 16 U.S.C. 824e, concerning the justness and reasonableness of the tariffs of the independent system operators (ISOs) and regional transmission organizations (RTOs).

The refund effective date in the above-docketed proceedings, established pursuant to section 206(b) of the FPA, will be the date of publication of this notice in the Federal Register.

Magalie R. Salas,
Secretary.

[FR Doc. E6-18809 Filed 11-7-06; 8:45 am]

BILLING CODE 6717-01-P